FEDERAL RESERVE SYSTEM

Formations of, Acquisitions by, and Mergers of Bank Holding Companies Extension of Comment Period

The companies listed in this notice applied to the Board for approval, pursuant to the Bank Holding Company Act of 1956 (12 U.S.C. 1841 et seq.) (BHC Act), Regulation Y (12 CFR part 225), and all other applicable statutes and regulations to become a bank holding company and/or to acquire the assets or the ownership of, control of, or the power to vote shares of a bank or bank holding company and all of the banks and nonbanking companies owned by the bank holding company, including the companies listed below.

The public portion of the application listed below, as well as other related filings required by the Board, if any, are available for immediate inspection at the Federal Reserve Bank indicated below and at the offices of the Board of Governors. This information may also be obtained on an expedited basis, upon request, by contacting the appropriate Federal Reserve Bank and from the Board's Freedom of Information Office at https://www.federalreserve.gov/foia/request.htm. Interested persons may express their views in writing on the standards enumerated in the BHC Act (12 U.S.C. 1842(c)).

The comment period for this application has been extended for good cause, in order to provide additional opportunity for interested persons to submit comments. Comments regarding the application must be received at the Reserve Bank indicated or the offices of the Board of Governors, Ann E. Misback, Secretary of the Board, 20th Street and Constitution Avenue NW, Washington DC 20551-0001; or https://www.federalreserve.gov/apps/ContactUs/feedback.aspx, not later than February 22, 2021.

A. Federal Reserve Bank of Richmond (Adam M. Drimer, Assistant Vice President) 701 East Byrd Street, Richmond, Virginia 23219. Comments can also be sent electronically to comments.applications@rich.frb.org:

1. First Citizens BancShares, Inc., Raleigh, North Carolina; to acquire CIT Group, Inc., New York, New York, and thereby indirectly acquire CIT Bank, National Association, Pasadena, California.

Board of Governors of the Federal Reserve System, January 21, 2021.
Ann Misback,
Secretary of the Board.

[FR Doc. 2021-01810 Filed 1-26-21; 8:45 am]

BILLING CODE P